COMMODITY FUTURES TRADING COMMISSION

Agency Information Collection Activities: Notice of Intent To Extend Collection Number 3038-0088: Swap Documentation

AGENCY: Commodity Futures Trading Commission.

ACTION: Notice.

SUMMARY: The Commodity Futures Trading Commission (“CFTC” or “Commission”) is announcing an opportunity for public comment on the proposed renewal of a collection of certain information by the agency. Under the Paperwork Reduction Act (“PRA”), Federal agencies are required to publish notice in the Federal Register concerning each proposed collection of information, including each proposed extension of an existing collection of information, and to allow 60 days for public comment. This notice solicits comments on certain collections of information mandated by Subpart I of Part 23 of the Commission's Regulations (Swap Documentation).

DATES: Comments must be submitted on or before September 30, 2025.

ADDRESSES: You may submit comments, identified by “Swap Documentation,” and Collection Number 3038-0088 by any of the following methods:

• The Agency's website, at https://comments.cftc.gov. Follow the instructions for submitting comments through the website.

• Mail: Christopher Kirkpatrick, Secretary of the Commission, Commodity Futures Trading Commission, Three Lafayette Centre, 1155 21st Street NW, Washington, DC 20581.

• Hand Delivery/Courier: Same as “Mail” above.

Please submit your comments using only one method.

FOR FURTHER INFORMATION CONTACT: Dina Moussa, Special Counsel, Market Participants Division, at (202) 418-5696 or dmoussa@cftc.gov; or Catherine Brescia, Attorney Advisor, Market Participants Division, at (202) 418-6236 or cbrescia@cftc.gov, Commodity Futures Trading Commission, Three Lafayette Centre, 1155 21st Street NW, Washington, DC 20581; and refer to OMB Control No. 3038-0088.

SUPPLEMENTARY INFORMATION: Under the PRA, Federal agencies must obtain approval from the Office of Management and Budget (“OMB”) for each collection of information they conduct or sponsor. “Collection of Information” is defined in 44 U.S.C. 3502(3) and 5 CFR 1320.3 and includes agency requests or requirements that members of the public submit reports, keep records, or provide information to a third party. Section 3506(c)(2)(A) of the PRA, 44 U.S.C. 3506(c)(2)(A), requires Federal agencies to provide a 60-day notice in the Federal Register concerning each proposed collection of information, including each proposed extension of an existing collection of information, before submitting the collection to OMB for approval. To comply with this requirement, the CFTC is publishing notice of the proposed extension of the existing collection of information listed below. An agency may not conduct or sponsor, and a person is not required to respond to, a collection of information unless it displays a currently valid OMB control number.

Title: Swap Documentation (OMB Control No. 3038-0088). This is a request for an extension of a currently approved information collection.

Abstract: On September 11, 2012, the Commission adopted Commission Regulations 23.500 through 23.505(“Regulations”) ¹ under Sections 4s(f), (g) and (i) ² of the Commodity Exchange Act (“CEA”).³ Commission Regulations 23.500 through 23.505 require, among other things, that swap dealers (“SDs”) ⁴ and major swap participants (“MSPs”) ⁵ develop and retain written swap trading relationship and end user exception documentation. The Regulations also establish requirements for SDs and MSPs regarding swap confirmation, portfolio reconciliation, and portfolio compression. Under the Regulations, SDs and MSPs are obligated to maintain records of the policies and procedures required by the rules.⁶

¹ 17 CFR 23.500-23.505.

² 7 U.S.C. 6s(f), (g) and (i).

³ See Confirmation, Portfolio Reconciliation, Portfolio Compression, and Swap Trading Relationship Documentation Requirements for Swap Dealers and Major Swap Participants, 77 FR 55904 (Sep. 11, 2012), available at https://www.govinfo.gov/content/pkg/FR-2012-09-11/pdf/2012-21414.pdf.

⁴ For the definition of SD, see Section 1a(49) of the CEA and Commission Regulation 1.3; 7 U.S.C. 1a(49) and 17 CFR 1.3.

⁵ For the definitions of MSP, see Section 1a(33) of the CEA and Commission Regulation 1.3; 7 U.S.C. 1a(33) and 17 CFR 1.3.

⁶ SDs and MSPs are required to maintain all records of policies and procedures in accordance with Commission Regulations 23.203 and, by extension, 1.31, including policies, procedures, and models used for eligible master netting agreements and custody agreements that prohibit custodian of margin from re-hypothecating, repledging, reusing, or otherwise transferring the funds held by the custodian. See 17 CFR 1.31 and 23.203.

Confirmation, portfolio reconciliation, and portfolio compression are important post-trade processing mechanisms for reducing risk and improving operational efficiency. The information collection obligations imposed by the Regulations are necessary to ensure that each SD and MSP maintains the required records of their business activities; and conducts and maintains records of independent and periodic audits sufficient to identify any material weakness in its documentation policies and procedures. The information collection contained in the Regulations is also essential to ensuring that SDs and MSPs document their swaps, reconcile their swap portfolios to resolve discrepancies and disputes, and wholly or partially terminate some or all of their outstanding swaps through regular portfolio compression exercises. This collection of information is mandatory.

With respect to the collection of information, the CFTC invites comments on:

• Whether the proposed collection of information is necessary for the proper performance of the functions of the Commission, including whether the information will have a practical use;

• The accuracy of the Commission's estimate of the burdens of the proposed collection of information, including the validity of the methodology and assumptions used;

• Ways to enhance the quality, usefulness, and clarity of the information to be collected; and

• Ways to minimize the burdens of collection of information on those who are to respond, including through the use of appropriate automated electronic, mechanical, or other technological collection techniques or other forms of information technology (e.g., permitting electronic submission of responses).

All comments must be submitted in English, or if not, accompanied by an English translation. Comments will be posted as received to https://www.cftc.gov. You should submit only information that you wish to make available publicly. If you wish the Commission to consider information that you believe is exempt from disclosure under the Freedom of Information Act (“FOIA”), a petition for confidential treatment of the exempt information may be submitted according to the procedures established in § 145.9 of the Commission's regulations.⁷

⁷ 17 CFR 145.9. See Confidential Information and Commission Records and Information, 74 FR 17395 (Apr. 15, 2009).

The Commission reserves the right, but shall have no obligation, to review, pre-screen, filter, redact, refuse or remove any or all of your submissions from http://www.cftc.gov that it may deem inappropriate for publication, such as obscene language. All submissions that have been redacted or removed that contain comments on the merits of the information collection request will be retained in the public comment file and will be considered as required under the Administrative Procedure Act and other applicable laws, and may be accessible under FOIA.

Burden Statement: The Commission is not revising its estimate of the burden for this collection. The respondent burden for this collection is estimated to be as follows:

• OMB Control No. 3038-0088 (Swap Documentation)

Number of Registrants: 108.

Estimated Average Burden Hours per Registrant: 7,324.5.

Estimated Aggregate Burden Hours: 791,046.

Frequency of Recordkeeping: As applicable.

There are no capital costs or operating and maintenance costs associated with this collection.

(Authority: 44 U.S.C. 3501 et seq.)

Dated: July 30, 2025.
Robert Sidman,
Deputy Secretary of the Commission.

[FR Doc. 2025-14620 Filed 7-31-25; 8:45 am]

BILLING CODE 6351-01-P